DEPARTMENT OF HOUSING AND URBAN DEVELOPMENT

[Docket No. FR-5100-FA-22]

Announcement of Funding Awards for the Indian Community Development Block Grant Program for Fiscal Year 2007

AGENCY: Office of Native American Programs, Office of Public and Indian Housing, HUD.

ACTION: Announcement of funding awards.

SUMMARY: In accordance with Section 102(a)(4)(C) of the Department of Housing and Urban Development Reform Act of 1989, this announcement notifies the public of funding decisions made by the Department in a competition for funding under the Fiscal Year 2007 (FY2007) Notice of Funding Availability (NOFA) for the Indian Community Development Block Grant (ICDBG) Program. This announcement contains the consolidated names and addresses of this year's award recipients under the ICDBG.

FOR FURTHER INFORMATION CONTACT: For questions concerning the ICDBG Program awards, contact the Area Office of Native American Programs (ONAP) serving your area or Deborah M. Lalancette, Office of Native Programs, 1670 Broadway, 23rd Floor, Denver, CO 80202, telephone (303) 675-1600. Hearing or speech-impaired individuals may access this number via TTY by calling the toll-free Federal Information Relay Service at (800) 877-8339.

SUPPLEMENTARY INFORMATION: The ICDBG program provides grants to Indian tribes and Alaska Native Villages to develop viable Indian and Alaska Native communities, including the creation of decent housing, suitable living environments, and economic opportunities primarily for persons with low and moderate incomes as defined in 24 CFR 1003.4.

The FY2007 awards announced in this Notice were selected for funding in a competition announced in a NOFA published in the Federal Register on March 13, 2007 (72 FR 11450). Applications were scored and selected for funding based on the selection criteria in that notice and Area ONAP geographic jurisdictional competitions.

The amount appropriated in FY2007 to fund the ICDBG was $59,400,000. $3,960,000 of this amount was retained to fund imminent threat grants in FY2007. In addition, a total of $75,373 in carryover funds from prior years was also available. The allocations for the Area ONAP geographic jurisdictions, including carryover, are as follows:

Area ONAP | Amount
Eastern/Woodlands | $7,063,664
Southern Plains | 9,793,712
Northern Plains | 7,738,525
Southwest | 20,525,637
Northwest | 3,349,401
Alaska | 7,044,434
Total | 55,515,373

In accordance with Section 102(a)(4)(C) of the Department of Housing and Urban Development Reform Act of 1989 (103 Stat. 1987, 42 U.S.C. 3545), the Department is publishing the names, addresses, and amounts of the 74 awards made under the various regional competitions in Appendix A to this document.

Dated: March 25, 2008.
Paula O. Blunt,
General Deputy Assistant Secretary for Public and Indian Housing.

Appendix A
[FY 2007 Indian Community Development Block Grant Awards]
Name of applicant | Amount funded | Project description
Arctic Village, Marjorie Gommill, PO Box 69, Arctic Village, AK 99722, (907) 587-5523 | $392,495 | New Construction.
Asa'carsarmiut Tribal Council, James Landlord, PO Box 32249, Mountain Village, AK 99632, (907) 591-2814 | 528,835 | Health Clinic.
Bear River Band of Rohnerville Rancheria, Bruce Merson, 27 Bear River Drive, Loleta, CA 95551, (520) 568-1064 | 605,000 | Homeownership Housing Units.
Chickasaw Nation, Bill Anoatubby, PO Box 1548, Ada, OK 74821, (508) 436-7216 | 800,000 | Search and Rescue Firehouse.
Chignik Bay Tribal Council, Debbie Carlson, PO Box 50, Chignik Bay, AK 99564, (907) 749-2445 | 599,853 | Health Clinic.
Chilkoot Indian Association, Gregory Stuckey, PO Box 490, Haines, AK 99827, (907) 766-2365 | 600,000 | Rental Housing Construction.
Chippewa Cree Tribe, John Houle, PO Box 544, Box Elder, MT 59521, (406) 395-4478 | 900,000 | Housing Rehabilitation.
Choctaw Housing Authority, Janie Zah-White Deer, Highway 16, Choctaw, MS 39350, (601) 656-5251 | 600,000 | Housing Rehabilitation.
Choctaw Nation, Gregory E. Pyle, PO Drawer 1210, Durant, OK 74702, (580) 924-8280 | 800,000 | Complex for Fire Truck/Ambulance.
Citizen Potawatomi Nation, John A. Barrett, 1601 South Gordon Cooper Drive, Shawnee, OK 74801, (405) 275-3121 | 800,000 | Microenterprise Development.
Cocopah Indian Tribe, Michael Reed, Country 15, Avenue G, Somerton, AZ 85350, (928) 627-8863 | 605,000 | Housing Rehabilitation.
Coeur D'Alene Tribe, Chief Allan, 850 A Street, PO Box 408, Plummer, ID 83851, (208) 686-1800 | 500,000 | Housing Rehabilitation.
Confederated Salish & Kootenai Tribes, James Steele, Jr., PO Box 278, Pablo, MT 59855, (406) 675-2700 | 1,076,073 | Housing Rehabilitation and Homebuyer Assistance.
Confederated Tribes of the Chehalis Reservation, David Burnett, PO Box 536, Oakville, WA 98568, (360) 273-5911 | 349,401 | Water Line Expansion.
Cowlitz Indian Tribe, John Barnett, S1055 9th Ave. STE B, Longview, WA 98632, (360) 577-8140 | 500,000 | Health Clinic.
Crow Tribe of Indians, Carl Venne, PO Box 159, Crow Agency, MT 59022, (406) 638-3715 | 1,100,000 | Wastewater Lagoon System.
Curyung Tribal Council, Thomas Tilden, PO Box 216, Dillingham, AK 99576, (907) 842-4510 | 600,000 | Hospital Boiler.
Eastern Shawnee Tribe, Glenna Wallace, PO Box 350, Seneca, MO, (918) 666-2435 | 800,000 | Roads/Access to Social Service Facility.
Ely Shoshone Tribe, Michael Dalton, 16 Shoshone Circle, Ely, NV 89301, (775) 289-3013 | 529,931 | Housing Rehabilitation.
Fort Peck Assiniboine and Sioux Tribes, A.T. “Rusty” Stafne, PO Box 1027, Poplar, MT 59255, (406) 768-5155 | 662,452 | Housing Rehabilitation.
Grand Traverse Band of Ottawa and Chippewa Indians, Joseph Huhn, 2605 N West Bayshore Dr., Suttons Bay, MI 49682, (231) 271-3538 | 600,000 | Infrastructure Improvement Project.
Hannahville Indian Community, Jill Wetthuhn, N14911 Hannahville B1 Rd., Wilson, MI 49896, (906) 466-2959 | 600,000 | Health Center Renovation.
Havasupai Indian Tribe, Dan Watahomigie, Supai, AZ 96435, (602) 678-0533 | 605,000 | Extension of Electric Services.
Hopi Tribe, Nat Nutongla, PO Box 123, Kykotsmovi, AZ 86039, (928) 734-3717 | 2,199,999 | Water Improvement System.
Hualapai Indian Tribe, Salena Siyuja, PO Box 179, Peach Springs, AZ 86434, (928) 769-2216 | 825,000 | Health Programs Building.
Igiugig Village Council, Dallia Andrew, #1 Airport Way, Igiugig, AK 99613, (907) 533-3211 | 500,000 | New Home Construction.
Kasigluk Traditional Elders Council, Michael C. Martin, Sr., PO Box 19, Kasigluk, AK 99609, (907) 477-6405 | 484,981 | Health Clinic.
Keweenaw Bay Indian Community, Susan LaFernier, 107 Beartown Rd., Barraga, MI 49908, (906) 353-6623 | 600,000 | Health & Education Facility.
Kokhanok Village Council, John Nelson, Box 1007, Kokhanok, AK 99606, (907) 533-3211 | 500,000 | New Home Construction.
Lac Courte Oreilles Band of Lake Superior Chippewa, Lorene Wiglot, 13394 W. Trepania Rd., Hayward, WI 54843, (715) 634-8934 | 600,000 | Housing Rehabilitation.
Laguna Housing Development & Management Enterprise, Floyd Tortaita, PO Box 178, Laguna, MN 87026, (505) 552-6430 | 825,000 | Housing Rehabilitation.
Leech Lake Band of the Minnesota Chippewa Tribe, Lee Turney, Early Childhood Div., 115 6th St. NW., Ste E, Cass Lake, MN 56633, (218) 335-3793 | 600,000 | Early Childhood Center.
Little River Band of Ottawa Indians, Fred Brown, 375 River Street, Manistee, MI 49660, (231) 723-8288 | 599,955 | Homeownership Assistance Program.
Los Coyotes Band of Indians, Diane McHenry, PO. Box 189, Warner Springs, CA 92086, (760) 432-6667 | 605,000 | New Home Construction.
Lower Brule Sioux Tribe, Michael Jandreau, 187 Oyate Circle, Lower Brule, SD 57548, (605) 473-5561 | 900,000 | Road Improvements.
Muscogee Creek, A.D. Ellis, PO Box 580, Okmulgee, OK 74447, (918) 756-8700 | 800,000 | Community Higher Education Facility.
Native Village of Ekuk, Robert Heyano, PO Box 530, Dillingham, AK 99576, (907) 842-3843 | 600,000 | Hospital Boiler.
Native Village of Gakona, Charlene Nollner, 101 School Road, Gakona, AK 99586, (907) 822-5997 | 381,270 | Road Project and Public Facility Building.
Native Village of Kwinhagak, Wassillie Bavilla, PO Box 149, Quinhagak, AK 99655, (907) 556-8165 | 600,000 | Housing Rehabilitation.
Navajo Nation, Chavez John, PO Box 2365, Window Rock, AZ 86515, (928) 871-6539 | 5,500,000 | Power and Water Line Extensions.
Nooksack Indian Tribe, Narisco Cunanan, PO Box 157, Deming, WA 98244, (360) 592-5176 | 500,000 | Infrastructure Improvements for Homes.
North Fork Rancheria of Mono Indians, William Hussmann, PO Box 929, North Fork, CA 93643, (559) 877-7360 | 605,000 | TANF Public Facility.
Ohkay Owingeh Pueblo, Tribal Council, Tomasita Duran, PO Box 1099, Ohkay Owingeh, NM 87566, (505) 852-0189 | 605,000 | Housing Rehabilitation.
Ottawa Tribe of Oklahoma, Charles Todd, PO Box 110, Miami, OK 74363, (948) 540-1536 | 800,000 | Community Center.
Penobscot Tribe of ME, Craig Sanborn, 6 River Rd., Indian Island, ME 04468, (207) 827-7776 | 527,241 | Water System Improvements.
Pleasant Point Passamaquoddy Tribe, Rueben Cleaves, 9 Sakom Rd., Perry, ME 04667, (207) 853-6022 | 600,000 | Housing Rehabilitation.
Pinoleville Pomo Nation, David Ponton, 500B Pinoleville Drive, Ukiah, CA 95482, (707) 463-1454 | 597,305 | Housing Infrastructure.
Ponca Tribe, Dan Jones, 20 White Eagle Drive, Ponca City, OK, (580) 762-8104 | 742,171 | Public Transit and Public Service Projects.
Port Gamble S'Klallam Tribe, Ron Charles, 31912 Little Boston Road, NE., Kingston, WA 98346, (360) 297-2646 | 500,000 | Youth Services Center.
Pueblo of Jemez, Marvin Ginn, PO Box 100, Jemez Pueblo, NM 87024, (505) 834-0305 | 565,902 | Housing Rehabilitation and Mortgage Principal Buydown.
Pueblo of San Felipe, Isaac Perez, PO Box 4339, San Felipe Pueblo, NM 87001, (505) 771-9291 | 825,000 | Housing Rehabilitation.
Pueblo of Zuni, Andrew Othole, 1203 B State Hwy. 53, Zuni, NM 87327, (505) 782-3054 | 2,200,000 | Housing Rehabilitation.
Quapaw Tribe, John Berrey, Box 765, Quapaw, OK 74363, (918) 542-1853 | 798,846 | Fire Station.
Quartz Valley Indian Reservation, Darlene Kammeyer, 13601 Quartz Valley Rd., Fort Jones, CA 96032, (707) 568-3571 | 605,000 | Fire Station.
Reno Sparks Indian Colony, Elvin Willie, 98 Colony Road, Reno, NV 89502, (775) 785-1331 | 605,000 | Transitional Living Center.
Sac and Fox of Oklahoma, Elizabeth Rhoads, Route 2, Box 246, Stroud, OK 74079, (918) 968-3526 | 310,000 | Waste Water Lagoon System.
San Xavier District, Kelly Moyes, 2018 W. San Xavier Road, Tucson, AZ 85746, (520) 573-4005 | 187,500 | Housing Rehabilitation.
Sault Ste. Marie Tribe of Chippewa Indians of MI, Carolyn O'Neil, 523 Ashmun St., Sault Ste. Marie, MI 49783, (906) 495-1454 | 536,468 | Housing Rehabilitation.
Seneca-Cayuga Tribe, Paul Spicer, PO Box 1283, Miami, OK 74355, (918) 542-6609 | 797,577 | Career Resource Center.
Sisseton-Wahpeton Oyate of the Lake Traverse Reservation, Michael Selvage, 605 Lydia Goodsell Street, Sisseton, SD 57262, (605) 698-3901 | 1,100,000 | Housing Rehabilitation.
Skagway Traditional Council, Amber Matthews, PO Box 1157, Skagway, AK 99840, (907) 983-4068 | 237,000 | Housing Rehabilitation.
Sokaogon Chippewa Community, Steve Woods, 3051 Sand Lake Rd., Crandon, WI 54520, (715) 478-2001 | 600,000 | Health Clinic.
Spokane Tribe, Richard Sherwood, PO Box 100, Wellpinit, WA 99040, (509) 458-6500 | 500,000 | Childhood Development Center.
Standing Rock Sioux Tribe, Ron His Horse Is Thunder, PO Box D, Fort Yates, ND 58538, (701) 854-7201 | 1,100,000 | Gymnasium and Wellness Center.
Taos Pueblo Housing, Gary Lujan, PO Box 2570, Taos, NM 87571, (505) 737-9704 | 825,000 | Housing Rehabilitation.
Turtle Mountain Band of Chippewa, David Brien, PO Box 900, Belcourt, ND 58316, (701) 477-2600 | 900,000 | Housing Rehabilitation.
Twin Hills Village Council, John Sharp, PO Box TWA, Twin Hills, AK 99576, (907) 525-4821 | 600,000 | Hospital Boiler.
United Keetoowah Band of Cherokee Indians, George Wickliffe, PO Box 746, Tahlequah, OK 73005, (918) 546-5126 | 800,000 | Multipurpose Cultural Center.
Village of Venetie, Mary Rose Gamboa, PO Box 81119, Venetie, AK 99781, (907) 848-8212 | 420,000 | New Home Construction.
White Earth Band of the Minnesota Chippewa Tribe, Michael Triplett, PO Box 418, White Earth, MN 56591, (218) 935-2359 | 600,000 | Water and Sewer Infrastructure.
Wichita & Affiliated Tribes, Gary McAdams, PO Box 729, Anandarko, OK 73005, (405) 247-2425 | 794,598 | Child Development Center.
Wyandotte Nation, Leaford Bearskin, Chief, 64700E Highway 60, Wyandotte, OK 74370, (918) 678-2297 | 750,520 | Water System Improvements.
Yakama Nation, Lavina Washines, Tribal Chairperson, PO Box 151, Toppenish, WA 98948, (509) 865-5121 | 500,000 | Repair/Upgrade of Water System.
Yurok Tribe, Peggy O'Neill, PO Box 1027, Klamath, CA 95548, (707) 482-1350 | 605,000 | Power and Phone Line Extensions.

[FR Doc. E8-6719 Filed 3-31-08; 8:45 am]

BILLING CODE 4210-67-P